FEDERAL MARITIME COMMISSION

[Docket No. 14-04]

EDAF Antillas, Inc. v. Crowley Caribbean Logistics, LLC, IFS International Forwarding, S.L., and IFS Neutral Maritime Services; Notice of Filing of Complaint and Assignment

Notice is given that a complaint has been filed with the Federal Maritime Commission (Commission) by Edaf Antillas, Inc., hereinafter “Complainant,” against Crowley Caribbean Logistics, LLC (“CCL”), IFS International Forwarding, S.L. (“IFS”) and IFS Neutral Maritime Services (“Neutral”), hereinafter “Respondents.” Complainant states that it is a shipper engaged in the distribution and marketing of Spanish language books. Complainant alleges that: Respondent CCL is an ocean common carrier; Respondents IFS and Neutral are Limited Liability Corporations organized under the laws of the Kingdom of Spain and non-vessel-operating common carriers and freight forwarders under the Shipping Act of 1984 (“the Act”).

Complainant alleges that Respondents violated section 10(d)(1) of the Act, 46 U.S.C. 41102(c) “by failing to have reasonable regulations or practices in place that, if followed, would have prevented the loading of a non-compliant wood pallet or crate into a container bound for the United States”; “when they failed to establish, observe, and enforce just and reasonable regulations and practices to ensure that the container rejected for entry in to the United States, was cured for reentry in a timely and efficient manner”; and “by not having reasonable regulations or practices regarding how expenses incurred in the re-exportation and re-importation of non-compliant cargos would be resolved between these regulated parties.” Further Complainant alleges that Respondents violated section 10(b)(8) of the Act “when they required and demanded payment for expenses that would be incurred in curing the defective cargo from one or more of the Respondents and/or the shipper or consignee of the offending cargo.” Further Complainant alleges that Respondent CCL “resorted to unfair or unjustly discriminatory methods” in violation of section 10(b)(3) of the Act, 46 U.S.C. 41104(3). Finally, Complainant alleges that Respondent CCL violated section 10(d)(1) of the Act in its failure to notify Complainant's Customs Broker of the required filing.

Complainant requests that the Commission issue the following relief: “that the Commission direct the Respondents to pay reparations in the amount of $158,000.00 for actual injury suffered by the Complainant and any additional amounts the Commission determines should proceed for Respondents' violation of 46 U.S.C. 41104(3), including reasonable attorney's fees and costs.”

The full text of the complaint can be found in the Commission's Electronic Reading Room at www.fmc.gov/14-04.

This proceeding has been assigned to the Office of Administrative Law Judges. The initial decision of the presiding officer in this proceeding shall be issued by May 4, 2015 and the final decision of the Commission shall be issued by November 2, 2015.

Karen V. Gregory,
Secretary.

[FR Doc. 2014-10527 Filed 5-7-14; 8:45 am]

BILLING CODE 6730-01-P